DEPARTMENT OF TRANSPORTATION

Federal Aviation Administration

14 CFR Part 39

[Docket No. FAA-2009-0555; Directorate Identifier 2009-NE-18-AD]

Airworthiness Directives; Honeywell International Inc. TPE331-10 and TPE331-11 Series Turboprop Engines

AGENCY: Federal Aviation Administration, DOT.

ACTION: Proposed rule; withdrawal.

SUMMARY: This action withdraws a notice of proposed rulemaking (NPRM) that proposed an airworthiness directive (AD) supersedure, applicable to Honeywell International Inc. TPE331-10 and TPE331-11 series turboprop engines. That action would have required adding 360 first stage turbine disk serial numbers (S/Ns) to the applicability. Since we issued that NPRM, we decided not to supersede AD 2009-17-05, but instead to issue a new NPRM for those additional 360 parts. Accordingly, we withdraw the proposed rule.

FOR FURTHER INFORMATION CONTACT: Joseph Costa, Aerospace Engineer, Los Angeles Aircraft Certification Office, FAA, Transport Airplane Directorate, 3960 Paramount Blvd., Lakewood, CA 90712-4137; phone: 562-627-5246; fax: 562-627-5210; e-mail: joseph.costa@faa.gov.

SUPPLEMENTARY INFORMATION: A proposal to amend part 39 of the Federal Aviation Regulations (14 CFR part 39) to add a new airworthiness directive (AD), applicable to Honeywell International Inc. TPE331-10 and TPE331-11 series turboprop engines, was published in the Federal Register on June 22, 2010 (75 FR 35354). The proposed rule would have added 360 S/Ns to the applicability of AD 2009-17-05. The proposed actions were intended to prevent uncontained failure of the first stage turbine disk and damage to the airplane.

Since we issued that NPRM, we decided not to supersede AD 2009-17-05, as doing so would require us to bring forward the effectivity dates for removal or inspection of the suspect turbine disks listed in the AD. Instead, we are planning to issue a new NPRM that will address the additional 360 turbine disk S/Ns requiring inspection or removal.

Since this action only withdraws a notice of proposed rulemaking, it is neither a proposed nor a final rule and therefore, is not covered under Executive Order 12866, the Regulatory Flexibility Act, or DOT Regulatory Policies and Procedures (44 FR 11034, February 26, 1979).

List of Subjects in 14 CFR Part 39

Air transportation, Aircraft, Aviation safety, Safety.

The Withdrawal

Accordingly, the notice of proposed rulemaking, Docket No. FAA-2009-0555, published in the Federal Register on June 22, 2010 (75 FR 35354), is withdrawn.

Issued in Burlington, Massachusetts, on July 22, 2011.
Peter A. White,
Acting Manager, Engine and Propeller Directorate, Aircraft Certification Service.

[FR Doc. 2011-19048 Filed 7-27-11; 8:45 am]

BILLING CODE 4910-13-P